DEPARTMENT OF TRANSPORTATION

National Highway Traffic Safety Administration

[Docket No. NHTSA-2020-0010; Notice 2]

Withdrawal of Mercedes-Benz USA, LLC, Grant of Petition for Decision of Inconsequential Noncompliance

AGENCY: National Highway Traffic Safety Administration (NHTSA), U.S. Department of Transportation (DOT).

ACTION: Notice withdrawal.

On March 3, 2025, NHTSA erroneously published, at 90 FR 11089, a notice granting a petition for decision of inconsequential noncompliance filed by Mercedes-Benz AG (MBAG) and Mercedes-Benz USA, LLC (MBUSA) (collectively, “Mercedes-Benz”). NHTSA is withdrawing the March 3, 2025 notice. NHTSA will soon publish a notice of the agency's decision on Mercedes-Benz's petition.

Authority: (49 U.S.C. 30118, 30120: Delegations of authority at 49 CFR 1.95 and 501.8).

Issued on: March 3, 2025.
Otto Matheke,
Director, Office of Vehicle Safety Compliance.

[FR Doc. 2025-03666 Filed 3-4-25; 4:15 pm]

BILLING CODE P